NUCLEAR REGULATORY COMMISSION

[Docket No. 40-8989]

Envirocare of Utah, Inc.; Notice of Receipt of Amendment Request and Opportunity To Request a Hearing

I. Introduction

The U.S. Nuclear Regulatory Commission (NRC) has received, by letter dated March 27, 2003, a request from Envirocare of Utah, Inc., for approval of a license amendment to Materials License SMC-1559 to authorize it to receive and dispose of byproduct material, as defined in section 11e.(2) of the Atomic Energy Act (AEA) of 1954, as amended (hereafter referred to as 11e.(2) byproduct material), with concentrations of Ra-226 up to 100,000 pico curies per gram (pCi/g). Envirocare also requested approval of a revision to its License Application to allow disposal of containerized waste.

The Envirocare facility, located at Clive, Utah, is licensed by NRC to accept and dispose of 11e.(2) byproduct material received from others. Currently, Envirocare's license restricts the concentration of Ra-226 in 11e.(2) byproduct material received by Envirocare to 4000 pCi/g. Additionally, Envirocare's License Application discusses disposal of unpackaged 11e.(2) byproduct material. The unpackaged material is to be put into the disposal cell in layers not exceeding 12 inches.

The request from Envirocare, if granted by NRC, would allow 11e.(2) byproduct material with higher concentrations of Ra-226 to be disposed of at the facility. It would allow the higher activity material to be containerized and disposed of in containers that will not meet the existing 12 inch layering requirement.

The staff will review Envirocare's request for conformance with 10 CFR parts 20 and 40, using NUREG-1620, “Standard Review Plan for the Review of a Reclamation Plan for Mill Tailings Sites Under Title II of the Uranium Mill Tailings Radiation Control Act” and other applicable agency regulations and guidance. If NRC approves Envirocare's request, the approval will be documented in an amendment to Envirocare's license. However, before approving the request, NRC will need to make the findings required by the AEA and NRC regulations. These findings will be documented in a Technical Evaluation Report and either an Environmental Assessment or an Environmental Impact Statement.

II. Opportunity To Request a Hearing

The NRC hereby provides notice that this is a proceeding on an application for an amendment of a license falling within the scope of Subpart L, “Informal Hearing Procedures for Adjudications in Materials and Operator Licensing Proceedings” of NRC's rules and practice for domestic licensing proceedings in 10 CFR part 2. Pursuant to § 2.1205(a), any person whose interest may be affected by this proceeding may file a request for a hearing in accordance with § 2.1205(d). A request for a hearing must be filed within 30 days of the publication of this Federal Register notice.

The request for a hearing must be filed with the Office of the Secretary, either:

(1) By delivery to the Rulemaking and Adjudications Staff of the Office of the Secretary of the Commission at One White Flint North, 11555 Rockville Pike, Rockville, MD 20852, between 7:45 a.m. and 4:15 p.m., Federal workdays; or

(2) By mail or telegram addressed to the Secretary, U.S. Nuclear Regulatory Commission, Washington, DC 20555, Attention: Rulemaking and Adjudications Staff. Because of continuing disruptions in the delivery of mail to United States Government offices, it is requested that requests for hearing also be transmitted to the Secretary of the Commission either by means of facsimile transmission to 301-415-1101, or by e-mail to hearingdocket@nrc.gov.

In accordance with 10 CFR 2.1205(f), each request for a hearing must also be served, by delivering it personally or by mail, to:

(1) The applicant, Envirocare of Utah, Inc., 605 North 5600 West, Salt Lake City, Utah 84116; and

(2) The NRC staff, by delivery to the Office of the General Counsel, One White Flint North, 11555 Rockville Pike, Rockville, MD 20852, between 7:45 a.m. and 4:15 p.m., Federal workdays, or by mail addressed to the Office of the General Counsel, U.S. Nuclear Regulatory Commission, Washington, DC 20555. Because of continuing disruptions in the delivery of mail to United States Government offices, it is requested that requests for hearing also be transmitted to the Office of the General Counsel, either by means of facsimile transmission to 301-415-3725, or by e-mail to OGCMailCenter@nrc.gov.

In addition to meeting other applicable requirements of 10 CFR part 2 of the NRC's regulations, a request for a hearing filed by a person other than an applicant must describe in detail:

(1) The interest of the requestor;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

III. Further Information

The application for the license amendment and the request to revise the License Application are available for inspection at NRC's Public Electronic Reading Room at http://www.nrc.gov/reading-rm/adams.html. [ADAMS Accession No. ML031000416] Documents may also be examined and/or copied for a fee, at the NRC's Public Document Room, located at One White Flint North, 11555 Rockville Pike, Rockville, MD 20854. Any questions with respect to this action should be referred to Myron Fliegel, Fuel Cycle Facilities Branch, Division of Fuel Cycle Safety and Safeguards, Office of Nuclear Materials Safety and Safeguards, U.S. Nuclear Regulatory Commission, Mail Stop T8-A33, Washington, DC 20555-0001. Telephone: (301) 415-6629.

Dated at Rockville, Maryland, this 9th day of May, 2003.
For the Nuclear Regulatory Commission.
Eric J. Leeds,
Deputy Director, Division of Fuel Cycle Safety and Safeguards, Office of Nuclear Materials Safety and Safeguards.

[FR Doc. 03-12114 Filed 5-14-03; 8:45 am]

BILLING CODE 7590-01-P